FEDERAL ELECTION COMMISSION

Sunshine Act Meetings

Federal Register CITATION NOTICE OF PREVIOUS ANNOUNCEMENT: 89 FR 94730.

PREVIOUSLY ANNOUNCED TIME AND DATE OF THE MEETING: Tuesday, December 10, 2024 at 10 a.m. and its continuation at the conclusion of the open meeting on December 12, 2024.

CHANGES IN THE MEETING: The meeting also discussed: Matters relating to internal personnel decisions, or internal rules and practices.

CONTACT PERSON FOR MORE INFORMATION: Judith Ingram, Press Officer, Telephone: (202) 694-1220.

(Authority: Government in the Sunshine Act, 5 U.S.C. 552b)

Vicktoria J. Allen,
Deputy Secretary of the Commission.

[FR Doc. 2024-30051 Filed 12-13-24; 4:15 pm]

BILLING CODE 6715-01-P